DEPARTMENT OF ENERGY

Federal Energy Regulatory Commission

18 CFR Part 385

[Docket No. RM08-8-000]

Ex Parte Contacts and Separation of Functions

AGENCY: Federal Energy Regulatory Commission, DOE.

ACTION: Correcting amendment.

SUMMARY: This document contains a correction to the final regulations (Docket No. RM08-8-000) that were published in the Federal Register on October 22, 2008 (73 FR 62881). The final rule document revised the Federal Energy Regulatory Commission's regulations to clarify its rules governing ex parte contacts and separation of functions as they apply to proceedings arising out of investigations initiated under Part 1b of the Commission's regulations.

DATES: Effective Date: November 21, 2008.

FOR FURTHER INFORMATION CONTACT: Wilbur Miller, Federal Energy Regulatory Commission, 888 First Street, NE., Washington, DC 20426, 202-502-8953, wilbur.miller@ferc.gov.

SUPPLEMENTARY INFORMATION: In FR Document E8-25103, appearing on page 62886 in the Federal Register of October 22, 2008, at the beginning of the SUPPLEMENTARY INFORMATION text, before paragraph 1, add the following: “Before Commissioners: Joseph T. Kelliher, Chairman; Suedeen G. Kelly, Marc Spitzer, Philip D. Moeller, and Jon Wellinghoff.”

Nathaniel J. Davis, Sr.,
Deputy Secretary.

[FR Doc. E8-25934 Filed 10-29-08; 8:45 am]

BILLING CODE 6717-01-P